DEPARTMENT OF JUSTICE

Notice of Lodging of Proposed Consent Decree Under the Clean Air Act

On April 24, 2014, the Department of Justice lodged a proposed consent decree with the United States District Court for the Northern District of Ohio in the lawsuit entitled United States v. City of Akron, et al., Civil Action No. 5:14-cv-00884.

In the Complaint, the United States alleges that the City of Akron (“City”) and Akron Energy Systems LLC (“AES”) (collectively “Defendants”) violated, at a steam generating facility that they own and operate, respectively, in Akron, Ohio, the Prevention of Significant Deterioration regulations and the New Source Performance Standards, both promulgated under the Clean Air Act, 42 U.S.C. 7401 et seq.

Under the consent decree, the Defendants will shut down the facility's coal-fired boiler by no later than September 30, 2015. The City will either replace the steam-generating capacity of the coal-fired boiler with one or more cleaner-burning natural gas-fired boilers or elect to shut down the facility. The City will pay a civil penalty of $75,000 and undertake a project costing no less than $390,000 to mitigate the harm of the alleged prior excess emissions from the coal-fired boiler.

The publication of this notice opens a period of public comment on the consent decree. Comments should be addressed to the Acting Assistant Attorney General, Environment and Natural Resources Division, and should refer to United States v. City of Akron, et al., D.J. Ref. No. 90-5-2-1-08720/1. All comments must be submitted no later than thirty (30) days after the publication date of this notice. Comments may be submitted either by email or by mail:

To submit comments: | Send them to:
By email | pubcomment-ees.enrd@usdoj.gov.
By mail | Acting Assistant Attorney General, U.S. DOJ—ENRD, P.O. Box 7611, Washington, DC 20044-7611.

During the public comment period, the consent decree may be examined and downloaded at this Department of Justice Web site: http://www.usdoj.gov/enrd/Consent_Decrees.html. We will provide a paper copy of the consent decree upon written request and payment of reproduction costs. Please mail your request and payment to: Consent Decree Library, U.S. DOJ—ENRD, P.O. Box 7611, Washington, DC 20044-7611. Please enclose a check in the amount of $19.25 (25 cents per page reproduction cost) payable to the United States Treasury.

Maureen M. Katz,
Assistant Section Chief, Environmental Enforcement Section, Environment and Natural Resources Division.

[FR Doc. 2014-09801 Filed 4-29-14; 8:45 am]

BILLING CODE 4410-15-P